DEPARTMENT OF TRANSPORTATION

Applications of Trans Borinquen Air, Inc. for Issuance of New Certificate Authority

AGENCY: Department of Transportation.

ACTION: Notice of Order to Show Cause (Order 2000-4-20); Dockets OST-99-6173 and OST-00-6777.

SUMMARY: The Department of Transportation is directing all interested persons to show cause why it should not issue orders (1) finding that Trans Borinquen Air, Inc., fails to meet the U.S. citizenship requirements of 49 U.S.C. 41102 and 40102(a)(15), and (2) denying it certificates to engage in interstate and foreign charter all-cargo transportation.

DATES: Persons wishing to file objections should do so no later than May 3, 2000.

ADDRESSES: Objections and answers to objections should be filed in Dockets OST-99-6173 and OST-00-6777 and addressed to Department of Transportation Dockets (SVC-124, Room PL-401), Department of Transportation, 400 Seventh Street, SW., Washington, DC 20590 and should be served upon the parties listed in Attachment A to the order.

FOR FURTHER INFORMATION CONTACT: Mr. Galvin Coimbre, Air Carrier Fitness Division (X-56, Room 6401), Department of Transportation, 400 Seventh Street, SW., Washington, DC 20590, (202) 366-5347.

Dated: April 19, 2000.
Robert S. Goldner,
Acting Deputy Assistant Secretary for Aviation and International Affairs.

[FR Doc. 00-10244 Filed 4-24-00; 8:45 am]

BILLING CODE 4910-62-U